DEPARTMENT OF JUSTICE

Notice of Lodging of Proposed Consent Decree Under the Comprehensive Environmental Response, Compensation, and Liability Act

On June 6, 2023, the Department of Justice lodged a proposed Consent Decree with the United States District Court for the Southern District of Illinois in the lawsuit entitled United States and Illinois v. Great Lakes Synergy Corp., Civil Action No. 3:23-cv-01934 (S.D. Ohio).

The proposed Consent Decree (1) resolves the liability of Great Lakes Synergy Corporation (“Great Lakes”) under sections 106 and 107 of the Comprehensive Environmental Response, Compensation, and Liability Act (“CERCLA”), 42 U.S.C. 9606 and 9607, for releases and threatened releases of hazardous substances at Area 7 of the Additional and Uncharacterized Sites Operable Unit of the Crab Orchard National Wildlife Refuge NPL Site (“Area 7 Pesticides Site”), located near Marion, Illinois, and (2) resolves potential counterclaims by Great Lakes against the United States. Under the proposed Consent Decree, Great Lakes would perform the Removal Action to clean up the Area 7 Pesticides Site, reimburse future response costs incurred by the United States, and reimburse $830,890 in past response costs incurred by the United States. To resolve Great Lakes' potential CERCLA contribution counterclaims, the United States will reimburse $484,185 of Great Lakes' past costs and will reimburse 28% of the costs Great Lakes incurs performing the Removal Action and paying future response costs on a “pay-as-you-go” basis.

The publication of this notice opens a period for public comment on the proposed Consent Decree. Comments should be addressed to the Assistant Attorney General, Environment and Natural Resources Division, and should refer to United States and Illinois v. Great Lakes Synergy Corp., D.J. Ref. No. 90-11-3-643/6. All comments must be submitted no later than 30 days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: http://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $33.00 (25 cents per page reproduction cost) payable to the United States Treasury. For a paper copy without the exhibits and signature pages, the cost is $11.50.

Patricia S. McKenna,
Assistant Section Chief, Environmental Enforcement Section, Environment and Natural Resources Division.

[FR Doc. 2023-12603 Filed 6-12-23; 8:45 am]

BILLING CODE 4410-15-P